DEPARTMENT OF THE INTERIOR

National Park Service

[N6416; NPS-WASO-NAGPRA-NPS0040822; PPWOCRADN0-PCU00RP14.R50000]

Notice of Inventory Completion: Kalamazoo Valley Museum, Kalamazoo, MI

AGENCY: National Park Service, Interior.

ACTION: Notice.

SUMMARY: In accordance with the Native American Graves Protection and Repatriation Act (NAGPRA), the Kalamazoo Valley Museum has completed an inventory of human remains and has determined that there is a cultural affiliation between the human remains and Indian Tribes or Native Hawaiian organizations in this notice.

DATES: Upon request, repatriation of the human remains in this notice may occur on or after September 15, 2025.

ADDRESSES: Send written requests for repatriation of the human remains in this notice to Regina Gorham, Collections Manager for the Kalamazoo Valley Museum, 230 N Rose Street, Kalamazoo, MI 49007, email rgorham@kvcc.edu.

SUPPLEMENTARY INFORMATION: This notice is published as part of the National Park Service's administrative responsibilities under NAGPRA. The determinations in this notice are the sole responsibility of the Kalamazoo Valley Museum, and additional information on the determinations in this notice, including the results of consultation, can be found in its inventory or related records. The National Park Service is not responsible for the determinations in this notice.

Abstract of Information Available

Human remains representing, at least two individuals have been identified from Flathead County, Montana. No associated funerary objects are present. The donor is Donald Boudeman. Boudeman who was an avid collector with wide-ranging interests, including musical instruments, medieval armor, firearms, and artifacts from Alaska, Egypt, Africa, the Americas, and the Philippines. He frequently advertised for acquisitions and displayed items from his collection at the Kalamazoo Public Museum (now the Kalamazoo Valley Museum), where he was named Curator of Archaeology around 1930. He was active in the Michigan-Indiana Museums Association, serving as Vice-President. Following his death in 1949, portions of his extensive collection entered the holdings of institutions such as the Kalamazoo Valley Museum, Michigan State University, Western Michigan University, and the National Museum of the American Indian.

Per Robert Sundick, forensic anthropologist and professor at Western Michigan University (April 1988), “The artificial deformation of the skull may be due to wrapping the skull as an infant. The skull and mandible do not work together so are from two different individuals.” Originally it was thought that two remains belonged to the same person.

Cultural Affiliation

Based on the information available and the results of consultation, cultural affiliation is reasonably identified by the geographical location or acquisition history of the human remains.

Determinations

The Kalamazoo Valley Museum has determined that:

• The human remains described in this notice represent the physical remains of two individuals of Native American ancestry.

• There is a connection between the human remains described in this notice and the Confederated Salish and Kootenai Tribes of the Flathead Reservation.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after September 15, 2025. If competing requests for repatriation are received, the Kalamazoo Valley Museum must determine the most appropriate requestor prior to repatriation. Requests for joint repatriation of the human remains are considered a single request and not competing requests. The Kalamazoo Valley Museum is responsible for sending a copy of this notice to the Indian Tribes and Native Hawaiian organizations identified in this notice and any other consulting parties.

Authority: Native American Graves Protection and Repatriation Act, 25 U.S.C. 3003, and the implementing regulations, 43 CFR 10.10.

Dated: August 5, 2025.
Melanie O'Brien,
Manager, National NAGPRA Program.

[FR Doc. 2025-15407 Filed 8-13-25; 8:45 am]

BILLING CODE 4312-52-P